DEPARTMENT OF ENERGY

Federal Energy Regulatory Commission

[Docket No. RP02-224-000]

El Paso Natural Gas Company; Notice of Report and Proposed Change in FERC Gas Tariff

April 5, 2002.

Take notice that on April 2, 2002, El Paso Natural Gas Company (EPNG) tendered for filing its report detailing the rate base and cost of service attributable to the Havasu Expansion Facilities after five years of service. EPNG also tendered for filing and acceptance by the Federal Energy Regulatory Commission the following tariff sheets to its FERC Gas Tariff to become effective May 1, 2002:

Second Revised Volume No. 1-A

Seventeenth Revised Sheet No. 22

Twenty-Eighth Revised Sheet No. 24

The tendered tariff sheets are being filed to restate the Reservation Charge related to the Havasu Expansion Facilities.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-8916 Filed 4-11-02; 8:45 am]

BILLING CODE 6717-01-P